FEDERAL COMMUNICATIONS COMMISSION

47 CFR Part 73

[MB Docket No. 18-214, GN Docket No. 12-268; FCC 19-21]

LPTV, TV Translator, and FM Broadcast Station Reimbursement

AGENCY: Federal Communications Commission.

ACTION: Final rule; announcement of compliance date.

SUMMARY: In this document, the Federal Communications Commission (Commission) announces that the Office of Management and Budget (OMB) has approved, for a period of three years, information collection requirements adopted in FCC 19-21. This document is consistent with the Report and Order, which stated that the Commission would publish a document in the Federal Register announcing the compliance date.

DATES:

Effective date: This rule is effective August 14, 2019.

Compliance Date: Compliance with 47 CFR 73.3701(c), published at 84 FR 11233 on March 26, 2019, shall commence as of August 14, 2019.

FOR FURTHER INFORMATION CONTACT: Cathy Williams by email at Cathy.Williams@fcc.gov and telephone at (202) 418-2918.

SUPPLEMENTARY INFORMATION: This document announces that OMB approved the new information collection requirements contained in 47 CFR 73.3701, as adopted in the LPTV, TV Translator, and FM Reimbursement Report and Order, FCC 19-21, published at 84 FR 11233 (March 26, 2019). OMB approved OMB Control Number 3060-1178 on July 30, 2019. The Commission publishes this notice as an announcement of the effective date of the information collection requirements contained in 47 CFR 73.3701.

Synopsis

As required by the Paperwork Reduction Act of 1995 (44 U.S.C. 3507), the FCC is notifying the public that it received OMB approval on July 30, 2019 for the new information collection requirements contained in 47 CFR 73.3701, as amended, in the LPTV, TV Translator, and FM Reimbursement Report and Order, MB Dkt. No. 18-214, GN Docket No. 12-268, FCC 19-21 (rel. March 15, 2019). Under 5 CFR part 1320, an agency may not conduct or sponsor a collection of information unless it displays a current, valid OMB Control Number. No person shall be subject to any penalty for failing to comply with a collection of information subject to the Paperwork Reduction Act that does not display a current, valid OMB Control Number. The OMB Control Number is 3060-1178. The foregoing notice is required by the Paperwork Reduction Act of 1995, Public Law 104-13, October 1, 1995, and 44 U.S.C. 3507.

The total annual reporting burdens and costs for the respondents are as follows:

OMB Control Number: 3060-1178.

Title: TV Broadcast Relocation Fund Reimbursement Form, FCC Form 2100, Schedule 399; Section 73.3700(e), Reimbursement Rules; Section 73.3701, Reimbursement Under the Reimbursement Expansion Act.

Form Number: FCC Form 2100, Schedule 399.

Respondents: Business or other for-profit entities; Not for profit institutions.

Number of Respondents and Responses: 4,400 respondents; 52,800 responses.

Estimated Hours per Response: 1-4 hours.

Frequency of Response: One-time reporting requirement; On occasion reporting requirement, Recordkeeping requirement.

Total Annual Burden: 98,800 hours.

Total Annual Cost: $15,000,000.

Obligation to Respond: Required to obtain or retain benefits. The statutory authority for this collection of information is contained in 47 U.S.C. 151, 154(j), 157 and 309(j) as amended; and Middle Class Tax Relief and Job Creation Act of 2012, Public Law 112-96, §§ 6402 (codified at 47 U.S.C. 309(j)(8)(G)), 6403 (codified at 47 U.S.C. 1452), 126 Stat. 156 (2012) (Spectrum Act).

Nature and Extent of Confidentiality: There is some need for confidentiality with this collection of information. Invoices, receipts, contracts, and other cost documentation submitted along with the form will be kept confidential in order to protect the identification of vendors and the terms of private contracts between parties. Vendor name and Employer Identification Numbers (EIN) or Tax Payer Identification Number (TIN) will not be disclosed to the public.

Privacy Impact Assessment: No impact(s).

Needs and Uses: This submission was made to the Office of Management and Budget (OMB) for the approval of new information collection requirements contained within the Commission's Report and Order, LPTV, TV Translator, and FM Reimbursement; Expanding the Economic and Innovation Opportunities Through Incentive Auction, MB Docket No. 18-214 and GN Docket No. 12-268, FCC 19-21, (March 15, 2019), 84 FR 11233 (March 26, 2019) (LPTV, TV Translator, and FM Reimbursement Report and Order). The LPTV, TV Translator, and FM Reimbursement Report and Order adopts rules to implement Congress' directive in the 2018 Reimbursement Expansion Act (REA) that the Commission reimburse certain Low Power Television and television translator stations and FM broadcast stations, for costs incurred as a result of the Commission's broadcast television spectrum incentive auction. In the REA, Congress provided additional funding for the TV Broadcaster Relocation Fund and expanded the list of entities eligible to receive reimbursement for costs reasonably incurred as a result of the reorganization of broadcast television spectrum to include LPTV/translator and FM stations. The LPTV, TV Translator, and FM Reimbursement Report and Order adopts rules relating to eligibility, expenses, and procedures the Commission will use to provide reimbursement to these entities and mandates the use of various measures designed to protect the Reimbursement Fund against waste, fraud, and abuse. This submission was made to implement the Commission's directive to add LPTV, TV Translators, and FM broadcast stations to this information collection.

In the LPTV, TV Translator, and FM Reimbursement Report and Order, the Commission delegated to the Media Bureau the authority to modify current FCC Form 2100, Schedule 399, TV Broadcaster Relocation Fund Reimbursement Form (Reimbursement Form), to add all newly eligible LPTV, TV Translator, and FM broadcast entities. The Media Bureau has, therefore, added questions and certifications to the Reimbursement Form to accommodate these newly eligible broadcast entities. Specifically, in order to protect the Reimbursement Fund against waste, fraud, and abuse, all newly eligible broadcast entities that propose to request reimbursement for eligible expenses must certify on the Reimbursement Form that they meet the specified eligibility criteria and provide information regarding their affected broadcasting equipment and the estimated costs eligible for reimbursement. This information collection is otherwise unchanged as already approved by OMB.

Federal Communications Commission.
Marlene Dortch,
Secretary.

[FR Doc. 2019-17277 Filed 8-13-19; 8:45 am]

BILLING CODE 6712-01-P